DEPARTMENT OF ENERGY

Federal Energy Regulatory Commission

Notice of Application

| Docket Nos.
Questar Southern Trails Pipeline Company | CP18-39-000
Navajo Tribal Utility Authority | CP18-40-000

Take notice that on December 22, 2017, Questar Southern Trails Pipeline Company (QST), 333 South State Street, Salt Lake City, Utah 84111, filed an application, in Docket No. CP18-39-000, pursuant to section 7(b) of the Natural Gas Act (NGA) seeking authority to abandon: (i) Its certificate of public convenience and necessity, (ii) its Part 284 blanket certificate, and (iii) its blanket certificate issued under Part 157, Subpart F of the Commission's regulations. QST also requests authority to abandon, part by sale and part in-place, all of its certificated facilities dedicated to providing jurisdictional transportation service including approximately 488 miles of natural gas pipeline and related facilities located in California, Arizona, Utah, and New Mexico.

Also, take notice that on December 22, 2017, the Navajo Tribal Utility Authority (NTUA), P.O. Box 170, Fort Defiance, Arizona 86504, filed an application, in docket No. CP18-40-000, pursuant to Section 7(f) of the NGA and Part 157 of the Commission's regulations, requesting: (i) A service area determination within which NTUA may, without further Commission authorization, enlarge or expand its natural gas distribution facilities and (ii) a waiver of all reporting, accounting, and other rules and regulations normally applicable to natural gas companies.

QST states that it cannot economically justify continued operation of its system. Therefore, QST entered into an agreement with NTUA to sell those portions of the QST Facilities that are useful for natural gas distribution service to NTUA. NTUA will utilize those acquired facilities to provide its own service replacing the service historically provided to it by QST. The remaining facilities not sold to the NTUA will be abandoned in-place.

Specifically, QST proposes to abandon by sale to NTUA approximately 268 miles of its interstate pipeline, three compressor stations, and related facilities in San Juan County, New Mexico and Apache and Coconino Counties, Arizona.

QST proposes to abandon in-place all the QST Facilities not being transferred to the NTUA, consisting of approximately 220 miles of 16-inch-diameter pipeline, and related facilities, extending from Coconino County, Arizona to the terminus of the certificated pipeline in San Bernardino County, California. QST will maintain all the facilities abandoned in-place in anticipation of a future sale or repurpose, all as more fully set forth in the applications which are on file with the Commission and open to public inspection. The filing is available for review at the Commission in the Public Reference Room or may be viewed on the Commission's website web at http://www.ferc.gov using the “eLibrary” link. Enter the docket number excluding the last three digits in the docket number field to access the document. For assistance, contact FERC at FERCOnlineSupport@ferc.gov or call toll-free, (886) 208-3676 or TYY, (202) 502-8659.

Any questions regarding the CP18-39-000 application should be directed to L. Bradley Burton, Director-Regulatory, Certificates & Tariffs, Dominion Energy Questar Corp., 333 South State Street, P.O. Box 45360, Salt Lake City, Utah 84145-0360, by telephone at (801) 324-2459, or by email to brad.burton@dominionenergy.com.

Any questions regarding the CP18-40-000 application should be directed to Jeffrey K. Janicke, McCarter & English, LLP, 1015 15th Street NW, 12th Floor, Washington, DC 20005, by telephone at (202) 735-3403; or by email to jjanicke@mccarter.com.

Pursuant to section 157.9 of the Commission's rules (18 CFR 157.9), within 90 days of this Notice, the Commission staff will either: Complete its environmental assessment (EA) and place it into the Commission's public record (eLibrary) for these proceedings; or issue a Notice of Schedule for Environmental Review. If a Notice of Schedule for Environmental Review is issued, it will indicate, among other milestones, the anticipated date for the Commission staff's issuance of the EA for this proposal. The filing of the EA in the Commission's public record for these proceedings or the issuance of a Notice of Schedule for Environmental Review will serve to notify federal and state agencies of the timing for the completion of all necessary reviews, and the subsequent need to complete all federal authorizations within 90 days of the date of issuance of the Commission staff's EA.

There are two ways to become involved in the Commission's review of these projects. First, any person wishing to obtain legal status by becoming a party to the proceedings for this project should, on or before the comment date stated below, file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit five copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to these projects. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions in lieu of paper using the eFiling link at http://www.ferc.gov. Persons unable to file electronically should submit an original and five copies of the protest or intervention to the Federal Energy Regulatory Commission, 888 First Street NE, Washington, DC 20426.

Comment Date: 5:00 p.m. Eastern Time on January 24, 2018.

Dated: January 3, 2018.
Kimberly D. Bose,
Secretary.

[FR Doc. 2018-00275 Filed 1-9-18; 8:45 am]

BILLING CODE 6717-01-P